DEPARTMENT OF EDUCATION

Applications for New Awards; Special Programs for Indian Children—Demonstration Grants; Supplemental Notice

AGENCY: Office of Elementary and Secondary Education, Department of Education.

ACTION: Supplemental notice.

SUMMARY: On June 26, 2018, we published in the Federal Register a notice inviting applications (NIA) for fiscal year (FY) 2018 for the Indian Education Discretionary Grants Programs—Demonstration Grants for Indian Children program, Catalog of Federal Domestic Assistance (CFDA) number 84.299A. This notice clarifies the selection criteria and requirements that apply to this competition.

DATES:

Deadline for Transmittal of Applications: August 10, 2018.

Deadline for Intergovernmental Review: September 10, 2018.

FOR FURTHER INFORMATION CONTACT: Ms. Tara Ramsey, U.S. Department of Education, 400 Maryland Avenue SW, Room 3W203, Washington, DC 20202. Telephone: (202) 260-3774. Email: NYCP.OIE@ed.gov.

If you use a telecommunications device for the deaf (TDD) or a text telephone (TTY), call the Federal Relay Service (FRS), toll free, at 1-800-877-8339.

SUPPLEMENTARY INFORMATION: On June 26, 2018 we published in the Federal Register an NIA for this program (83 FR 29769) that listed a number of selection criteria, including assigned point values, and requirements for this competition. Additionally, we posted an application package for the program on the Department's website at www2.ed.gov/programs/indiandemo/applicant.html and Grants.gov. Since that time, we have discovered that some parts of the selection criteria in the application package did not match the selection criteria in the NIA, and that some of the application package instructions relating to “Part 6, Other Attachments” did not match requirements and criteria in the NIA. Although we noted in the application package that the NIA was the official document governing this competition, we are publishing this supplemental notice to clarify that the selection criteria and requirements in the NIA are the official selection criteria and requirements for this competition. Please refer to the NIA for the selection criteria, including assigned point values, and requirements that apply to this competition. In addition to having been published in the Federal Register, the NIA is attached at the end of the application package under “Legal and Regulatory Information.” We also have updated the application package on the Department's website and grants.gov to correct the items described above. Please refer to those two websites for an updated application package.

Applicants that have already submitted timely applications may resubmit their applications but are not required to do so.

Applicants must submit their applications in Grants.gov by 4:30:00 p.m., Washington, DC time on August 10, 2018. Instructions for submitting an application can be found in the NIA.

Note: All information in the NIA remains the same.

Program Authority: 20 U.S.C. 7441.

Accessible Format: Individuals with disabilities can obtain this document and a copy of the application package in an accessible format (e.g., Braille, large print, audiotape, or compact disc) on request to the program contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: August 7, 2018.
Frank Brogan,
Assistant Secretary for Elementary and Secondary Education.

[FR Doc. 2018-17145 Filed 8-9-18; 8:45 am]

BILLING CODE 4000-01-P